DEPARTMENT OF ENERGY

Federal Energy Regulatory Commission

[Docket Nos. EL19-98-000; EL19-99-000]

Notice of Institution of Section 206 Proceeding and Refund Effective Date; York Haven Power Co., LLC, Lake Lynn Generation, LLC

On September 20, 2019, the Commission issued an order in Docket Nos. EL19-98-000 and EL19-99-000, pursuant to section 206 of the Federal Power Act (FPA), 16 U.S.C. 824e (2018), instituting an investigation into whether York Haven Power Co., LLC and Lake Lynn Generation, LLC's Reactive Service rate schedules remains just and reasonable. York Haven Power Co., LLC, et al., 168 FERC ¶ 61,187 (2019).

The refund effective date in Docket Nos. EL19-98-000 and EL19-99-000, established pursuant to section 206(b) of the FPA, will be the date of publication of this notice in the Federal Register.

Any interested person desiring to be heard in Docket Nos. EL19-98-000 and EL19-99-000 must file a notice of intervention or motion to intervene, as appropriate, with the Federal Energy Regulatory Commission, 888 First Street NE, Washington, DC 20426, in accordance with Rule 214 of the Commission's Rules of Practice and Procedure, 18 CFR 385.214 (2019), within 21 days of the date of issuance of the order.

Dated: September 20, 2019.
Nathaniel J. Davis, Sr.,
Deputy Secretary.

[FR Doc. 2019-21046 Filed 9-27-19; 8:45 am]

BILLING CODE 6717-01-P